DEPARTMENT OF COMMERCE

National Oceanic and Atmospheric Administration

[RTID 0648-XE222]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Scientific and Statistical Committee (SSC) will hold a meeting.

DATES: The meeting will be held on Wednesday, September 11, 2024, starting at 10 a.m. and continue through 1 p.m. on Thursday, September 12, 2024. See SUPPLEMENTARY INFORMATION for agenda details.

ADDRESSES: This will be an in-person meeting with a virtual option. SSC members, other invited meeting participants, and members of the public will have the option to participate in person at the Hyatt Place Inner Harbor, 511 South Central Ave., Baltimore, MD, or virtually via Webex webinar. Webinar connection instructions and briefing materials will be available at www.mafmc.org/ssc.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: During this meeting, the SSC will review the most recent survey and fishery data and the previously recommended 2025 Acceptable Biological Catch (ABC) for Atlantic Mackerel and Spiny Dogfish. The SSC will provide feedback and direction on the Council's draft 2025-2029 research priorities document. The SSC will also receive an overview of recent and upcoming activities for the Marine Recreational Information Program (MRIP). The SSC will discuss research activities, science implications and fishery interactions associated with offshore wind development in the Mid-Atlantic. The SSC will also discuss outcomes from the July SSC meeting and the key takeaways from the 8th National Scientific Coordination Sub-Committee Workshop. The SSC may take up any other business as necessary.

A detailed agenda and background documents will be made available on the Council's website (www.mafmc.org) prior to the meeting.

Special Accommodations

The meeting is physically accessible to people with disabilities. Requests for sign language interpretation or other auxiliary aid should be directed to Shelley Spedden, (302) 526-5251, at least 5 days prior to the meeting date.

Authority: 16 U.S.C. 1801 et seq.

Dated: August 21, 2024.
Rey Israel Marquez,
Acting Deputy Director, Office of Sustainable Fisheries, National Marine Fisheries Service.

[FR Doc. 2024-19115 Filed 8-23-24; 8:45 am]

BILLING CODE 3510-22-P